DEPARTMENT OF COMMERCE

International Trade Administration

Initiation of Antidumping and Countervailing Duty Administrative Reviews and Requests for Revocations in Part

AGENCY: Import Administration, International Trade Administration, Department of Commerce.

ACTION: Notice of Initiation of Antidumping and Countervailing Duty Administrative Reviews and Requests for Revocations in Part.

SUMMARY: The Department of Commerce has received requests to conduct administrative reviews of various antidumping and countervailing duty orders and findings with May anniversary dates. In accordance with the Department's regulations, we are initiating those administrative reviews. The Department of Commerce also received requests to revoke two antidumping duty orders in part.

EFFECTIVE DATE: June 19, 2001.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (2000), for administrative reviews of various antidumping and countervailing duty orders and findings with May anniversary dates. The Department also received timely requests to revoke in part the antidumping duty orders on Certain Circular Welded Carbon Steel Pipe & Tube from Taiwan and Certain Welded Carbon Steel Pipe & Tube from Turkey.

Initiation of Reviews

In accordance with 19 CFR 351.221(c)(1)(i), we are initiating administrative reviews of the following antidumping and countervailing duty orders and findings. We intend to issue the final results of these reviews not later than May 31, 2002.

| Period to be reviewed
Antidumping Duty Proceedings
Belgium: Stainless Steel Plate in Coils, A-423-808 | 5/1/00-4/30/01
ALZ, N.V.
Brazil: Frozen Concentrated Orange Juice, A-351-605 | 5/1/00-4/30/01
Citrovita Agro Industrial Ltda/Cambuhy MC Industrial Ltda/Cambuhy Citrus Comercial e Exportadora
Branco Peres Citrus S.A.
CTM Citrus S.A.
Sucorrico S.A.
Indonesia: Extruded Rubber Thread, A-560-803 | 5/1/00-4/30/01
Filati Lastex Sdn. Bhd.
PT Swasthi Parama Mulya
Italy: Stainless Steel Plate in Coils, A-475-822 | 5/1/00-4/30/01
Acciai Speciali Terni S.p.A.
Republic of Korea: Certain Polyester Staple Fiber, A-580-839 | 11/8/99-4/30/01
Daeyang Industrial Co., Ltd.
Estal Industry Co., Ltd.
Huvis Corporation
Keon Baek Co., Ltd.
Mijung Ind., Co., Ltd.
Sam Young Synthetics Co., Ltd.
Sunglim Co., Ltd.
Republic of Korea: Stainless Steel Plate in Coils, A-580-831 | 5/1/00-4/30/01
Pohang Iron & Steel Co., Ltd.
Taiwan:
Certain Circular Welded Carbon Steel Pipe & Tubes, A-583-008 | 5/1/00-4/30/01
Yieh Hsing Enterprise Co., Ltd.
Certain Polyester Staple Fiber, A-583-833
Far Eastern Textile, Ltd. | 3/30/00-4/30/01
Nan Ya Plastics Corporation, Ltd. | 4/27/00-4/30/01
Stainless Steel Plate in Coils, A-583-830 | 5/1/00-4/30/01
Ta Chen Stainless Pipe Co., Ltd.
Yieh United Steel Corporation.
Turkey: Certain Welded Carbon Steel Pipe and Tube, A-489-501 | 5/1/00-4/30/01
The Borusan Group

| Period/class or kind
Anti-friction Bearings Proceedings and Firms
France: A-427-801 | 5/1/00-4/30/01
Bearing Discount International GmbH | Ball
Rodamientos Rovi | Ball
EuroLatin Export Services, Ltd. | Ball
DCD | Ball
Representaciones Industriales Rodriguez S.A. (RIRSA) | Ball
Rovi-Valencia | Ball
Rovi-Marcay | Ball
SKF France S.A./Sarma (including all relevant affiliates) | Ball & Spherical
SNR Roulements | Ball
Germany: A-428-801 | 5/1/00-4/30/01
FAG Kugelfischer Georg Schafer AG | Ball
Paul Muller GmbH & Co., KG | Ball
Torrington Nadellager GmbH | Ball
Bearing Discount International GmbH | Ball
Rodamientos Rovi | Ball
EuroLatin Export Services, Ltd. | Ball
DCD | Ball
Representaciones Industriales Rodriguez S.A. (RIRSA) | Ball
Rovi-Valencia | Ball
Rovi-Marcay | Ball
Italy: A-475-801 | 5/1/00-4/30/01
FAG Italia S.p.A. (including all relevant affiliates) | Ball
SKF Industrie S.p.A (including all relevant affiliates) | Ball
Bearing Discount International GmbH | Ball
Rodamientos Rovi | Ball
EuroLatin Export Services, Ltd. | Ball
DCD | Ball
Representaciones Industriales Rodriguez S.A. (RIRSA) | Ball
Rovi-Valencia | Ball
Rovi-Marcay | Ball
Japan: A-588-804 | 5/1/00-4/30/01
Asahi Seiko Co., Ltd. | Ball
Isuzu Motors, Ltd. | Ball
Koyo Seiko Co., Ltd. | Ball
Nachi-Fujikoshi Corporation | Ball
Nankai Seiko Co., Ltd. | Ball
Nippon Pillow Block Sales Company, Ltd. | Ball
NSK, Ltd. | Ball
NTN Corporation | Ball
Osaka Pump Company, Ltd. | Ball
Takeshita Seiko Co., Ltd. | Ball
Singapore: A-559-801 | 5/1/00-4/30/01
NMB Singapore Ltd./Pelmec Industries (Pte) Ltd. | Ball
The United Kingdom: A-412-801 | 5/1/00-4/30/01
NSK Bearings Europe Ltd./RHP Bearings Ltd. | Ball
FAG (U.K.) Limited | Ball
SNFA Bearings Limited (SNFA UK) | Ball
The Barden Corporation (UK) Limited | Ball
Countervailing Duty Proceedings
None
Suspension Agreements
None

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: June 13, 2001.
Holly A. Kuga,
Senior Office Director, AD/CVD Enforcement, Group II, Office 4.

[FR Doc. 01-15426 Filed 6-18-01; 8:45 am]

BILLING CODE 3510-DS-P